DEPARTMENT OF THE TREASURY

Submission for OMB Review; Comment Request

ACTION: Notice; correction.

SUMMARY: The Department of the Treasury published a document in the Federal Register on March 28, 2013, inviting comments on collections of information submitted to the Office of Management and Budget (OMB) for review. This document contained incorrect references.

Correction

In the Federal Register of March 28, 2013, in FR Doc. 2013-07165, make the following corrections:

• page 19070, in the third column, under OMB Number: 1513-0016, Type of Review: replace “Extension without change” with “Revision” and Estimated Total Burden Hours: replace “94” with “134.”

Dated: April 9, 2013.
Dawn D. Wolfgang,
Treasury PRA Clearance Officer.

[FR Doc. 2013-08647 Filed 4-11-13; 8:45 am]

BILLING CODE 4810-31-P